DEPARTMENT OF ENERGY

Federal Energy Regulatory Commission

[Docket No. EC05-54-000, et al.]

Reliant Energy Mid-Atlantic Power Holdings, LLC, et al.; Electric Rate and Corporate Filings

March 3, 2005.

The following filings have been made with the Commission. The filings are listed in ascending order within each docket classification.

1. Reliant Energy Mid-Atlantic Power Holdings, LLC; Reliant Energy Maryland Holdings, LLC; and Brascan Power Piney & Deep Creek, LLC

[Docket No. EC05-54-000]

Take notice that on March 1, 2005, Reliant Energy Mid-Atlantic Power Holdings, LLC (Reliant Mid-Atlantic), Reliant Energy Maryland Holdings, LLC (Reliant Maryland) and Brascan Power Piney & Deep Creek, LLC (Brascan Power PDC) (collectively the Applicants) filed with the Federal Energy Regulatory Commission an application, pursuant to section 203 of the Federal Power Act and Part 33 of the Commission's regulations, seeking authorization for a transfer of assets. Reliant Mid-Atlantic states that it proposed to transfer to Brascan Power PDC the 28 MW Piney Hydroelectric Project located on the Clarion River in Piney Township, Clarion County, Pennsylvania. Reliant Maryland also states that it proposed to transfer to Deep Creek the 20 MW Deep Creek Project located in Garrett County, Maryland (together, the Sale). Reliant Maryland states that the proposed Sale will constitute the disposition of certain jurisdictional facilities and assets held by Reliant Mid-Atlantic and Reliant Maryland including interconnection facilities, related interconnection equipment, interconnection agreement, and related accounts, books, and records.

Comment Date: 5 p.m. Eastern Time on March 22, 2005.

2. DTE Energy Trading, Inc.

[Docket Nos. EC05-55-000 and ER97-3834-013]

Take notice that on March 1, 2005, DTE Energy Trading, Inc., (DTET), submitted an application pursuant to section 203 of the Federal Power Act for authorization of a disposition of jurisdictional facilities whereby DTET's corporate affiliate, CoEnergy Trading Company, will be merged with and into DTET in an internal corporate reorganization. DTET states that there will be no consideration for the transaction. DTET further states that its sole jurisdictional facilities are its market-based rate tariff and the power sales/purchase contracts executed thereunder. DTET also submitted a notice of no material change in status with respect to its market-based rate authorization.

Comment Date: 5 p.m. Eastern Time on March 22, 2005.

3. PacifiCorp

[Docket No. TX04-4-000]

Take notice that on February 28, 2005 as amended March 1, 2005, PacifiCorp tendered for filing an Amended Application for an Order Directing the Provision of Transmission Service.

PacifiCorp states that copies of this filing were supplied to Nevada Power, the Washington Utilities and Transportation Commission and the Public Utility Commission of Oregon.

Comment Date: 5 p.m. Eastern Time on March 14, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda L. Mitry,
Deputy Secretary.

[FR Doc. E5-1016 Filed 3-9-05; 8:45 am]

BILLING CODE 6717-01-P